DEPARTMENT OF JUSTICE

Notice of Lodging of Consent Decree Under the Clean Air Act

In accordance with Departmental policy, 28 CFR 50.7, notice is hereby given that on July 16, 2001, a proposed consent decree in United States v. Texaco California Inc. and Texaco Exploration and Production Inc., Civil Action No. CV-F-01-5923 REC DLB, was lodged with the United States District Court for the Eastern District of California.

This consent decree represents a settlement of claims brought against Texaco California Inc. (“TCI”) and Texaco Exploration and Production Inc. (“TEPI”) Under section 113(b) of the Clean Air Act (“the Act”), 42 U.S.C. 7413(b), in a civil complaint filed concurrently with the lodging of the consent decree. The complaint alleges that TEPI violated the Act and the California State Implementation Plan (“SIP”) by removing vapor control equipment from 5,000 wells at the Kern River Oil Field in violation of permit requirements; TEPI also failed to comply with SIP's lowest achievable emission rate (“LAER”) and offset requirements. In addition, the complaint alleges that TEPI violated permit requirements and failed to comply with LAER and offset requirements in operating an additional 700 wells at the Kern River Oil Field. Finally, the complaint alleges that TCI violated SIP Rule 463.2 by failing to install control equipment at certain storage tanks in the Midway-Sunset Oil Field, and by failing to maintain records required by the Rule.

Under the proposed settlement, TCI and TEPI will undertake significant injunctive measures designed to limit the emissions of volatile organic compounds from front line surge tanks, oil storage tanks, and shipping tanks at their oil fields. In addition, TCI and TEPI will pay a civil penalty of $568,000.

The Department of Justice will receive for a period of thirty (30) days from the date of this publication comments relating to the Consent Decree. Comments should be addressed to the Assistant Attorney General, Environment and Natural Resources Division, PO Box 7611, U.S. Department of Justice, Washington, DC 20044-7611, and shall refer to United States v. Texaco California Inc. and Texaco Exploration and Production Inc., DOJ Ref. 90-5-2-1-07326. A copy of all comments should also be sent to Robert D. Mullaney, U.S. Department of Justice, Environment and Natural Resources Division, Environmental Enforcement Section, 301 Howard Street, Suite 870, San Francisco, CA 94105.

The Consent Decree may be examined at the Office of the United States Attorney, 1130 “O” Street, Room 3654, Fresno, California, and at U.S. EPA Region 9, 75 Hawthorne Street, San Francisco, California. A copy of the Consent Decree may also be obtained by mail from the Consent Decree Library, PO Box 7611, U.S. Department of Justice, Washington, DC 20044-7611. In requesting a copy, please refer to United States v. Texaco California Inc. and Texaco Exploration and Production Inc., Civ. No. CV-F-01-5923 REC DLB (E.D. Cal.) DOJ Ref. 90-5-2-1-07326, and enclose a check in the amount of $8.25 (25 cents per page reproduction cost) payable to the Consent Decree Library.

Ellen M. Mahan,
Assistant Section Chief, Environmental Enforcement Section, Environment and Natural Resources Division.

[FR Doc. 01-18791 Filed 7-26-01; 8:45 am]

BILLING CODE 4410-15-M